ENVIRONMENTAL PROTECTION AGENCY

[EPA-HQ-OPPT-2015-0185; FRL-9929-43]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from May 1, 2015 to May 29, 2015.

DATES: Comments identified by the specific PMN number or TME number, must be received on or before July 30, 2015.

ADDRESSES: Submit your comments, identified by docket identification (ID) number EPA-HQ-OPPT-2015-0183, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, IMD (7407M), Office of Pollution Prevention and Toxics, Environmental Protection Agency, 1200 Pennsylvania Ave. NW., Washington, DC 20460-0001; telephone number: 202-564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from May 1, 2015 to May 29, 2015, and consists of the PMNs and TMEs both pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I-50 PMNs Received From May 1, 2015 to May 29, 2015
Case No. | Received date | Projected notice end date | Manufacturer importer | Use | Chemical
P-15-0387 | 4/6/2015 | 7/5/2015 | CBI | (G) Industrial coating polymer | (G) Modified fluoroalkyl acrylate copolymer.
P-15-0448 | 5/1/2015 | 7/30/2015 | CBI | (G) Additive in toner formulations | (G) trimethoxysilyl alkyl ester acrylate..
P-15-0449 | 5/4/2015 | 8/2/2015 | CBI | (G) Acrylic resin for waterborne exterior coatings | (G) Alkyl methacrylate polymer with styrene, amino acrylate and acrylic acid.
P-15-0450 | 5/4/2015 | 8/2/2015 | CBI | (G) Mixed metal oxide for batteries | (G) Lithium mixed metal oxide.
P-15-0451 | 5/5/2015 | 8/3/2015 | Alberdingk Boley, Inc | (S) Wood coatings | (G) Castor oil, dehydrated, polymer with alkyldioic acid, polymer with alkyl diols, hydroxy(hydroxymethyl)alkylylpropanoic acid, methylenebis[isocyanatocycloalkane] and alkyl glycol.
P-15-0451 | 5/5/2015 | 8/3/2015 | Alberdingk Boley, Inc | (S) Plastic coatings | (G) Castor oil, dehydrated, polymer with alkyldioic acid, polymer with alkyl diols, hydroxy(hydroxymethyl)alkylylpropanoic acid, methylenebis[isocyanatocycloalkane] and alkyl glycol.
P-15-0451 | 5/5/2015 | 8/3/2015 | Alberdingk Boley, Inc | (S) Leather and textile impregnation | (G) Castor oil, dehydrated, polymer with alkyldioic acid, polymer with alkyl diols, hydroxy(hydroxymethyl)alkylylpropanoic acid, ethylenebis[isocyanatocycloalkane] and alkyl glycol.
P-15-0452 | 5/5/2015 | 8/3/2015 | Alberdingk Boley, Inc | (G) Wood coatings and plastic coatings leather textile impregnation | (G) Castor oil dehydrated, polymer with di-alkyl carbonate, alkyl diamine, alkyl diol, dihydroxyalkyl carboxylic acid and methylenebis[isocyanatocycloalkane]-, compd. with trialkylamine.
P-15-0453 | 5/5/2015 | 8/3/2015 | Alberdingk Boley, Inc | (G) Wood coatings and plastic coatings leather textile impregnation | (G) Castor oil, dehydrated, polymer with alkyl diamine, dihydroxyalkyl carboxylic acid, aromatic azinetriamine, methylenebis[isocyanatocycloalkane]-,compds. with trialkylamine.
P-15-0454 | 5/5/2015 | 8/3/2015 | Alberdingk Boley, Inc | (G) Wood coatings and plastic coatings leather textile impregnation | (G) Castor oil, dehydrated, polymer with alkyldioic acid, alkyldiamine, alkyldiol, dihydroxyalkyl carboxylic acid, methylenebis[isocyanatocyclohexane], alkyl glycol, and polyethylene glycol bis(hydroxymethyl)alkyl Me ether, compd. with triakyl amine.
P-15-0455 | 5/5/2015 | 8/3/2015 | CBI | (G) Automotive parts | (S) 1,4-Cyclohexanedicarboxylic acid, 1,4-dimethyl ester, polymer with 1,4-cyclohexanedimethanol.
P-15-0456 | 5/6/2015 | 8/4/2015 | CBI | (G) resin for use in electrocoats | (G) Amine functional epoxy, organic acid salt.
P-15-0457 | 5/6/2015 | 8/4/2015 | Allnex USA, Inc | (S) Coating resin additive-curing catalyst | (G) Substituted Alkanoic acid, metal complex.
P-15-0459 | 5/6/2015 | 8/4/2015 | CBI | (G) Site-limited intermediate | (G) Siloxanes and Silicones, Me hydrogen, hydrolysis products with 1,1,3,3-tetramethyldisiloxane, distn. residues.
P-15-0460 | 5/7/2015 | 8/5/2015 | Allnex USA, Inc | (S) Coating resin additive-curing catalyst | (G) Substituted alkanoic acid-, metal salt.
P-15-0461 | 5/7/2015 | 8/5/2015 | CBI | (G) HAPS free, silicone based resin for the manufacture of ambient curing industrial coatings, such as anticorrosion coating for mufflers, ovens, chimneys, oven inserts, barbeques and electric and gas heaters as well as other large industrial objects and equipment | (G) Siloxanes and Silicones, alkoxy Me, polymers with Me silsesquioxanes, alkoxy-terminated.
P-15-0462 | 5/7/2015 | 8/5/2015 | CBI | (S) Acrylic resin used in the manufacture of inks and coatings | (G) Hexamethylene diisocyanate with caprolactone acrylate.
P-15-0463 | 5/11/2015 | 8/9/2015 | CBI | (G) Foam component | (G) Bifunctional aromatic polyester polyol.
P-15-0464 | 5/11/2015 | 8/9/2015 | CBI | (G) Foam component | (G) Polyfunctional aromatic polyester polyol.
P-15-0465 | 5/12/2015 | 8/10/2015 | 3M Company | (S) Reactive polymer in 2 part epoxy adhesive | (G) Amine modified epoxy resin.
P-15-0466 | 5/12/2015 | 8/10/2015 | CBI | (G) Intermediate | (G) Acrylic acid polymer.
P-15-0467 | 5/15/2015 | 8/13/2015 | CBI | (G) Binder resin for printing ink (Open non-disperse use ) | (G) Polyester type urethane polymer.
P-15-0468 | 5/15/2015 | 8/13/2015 | CBI | (G) Printing ink additive | (G) Polycyclecarboxylic acid, hydroxy-(substituted phenyl)diazenyl, metal salt.
P-15-0469 | 5/15/2015 | 8/13/2015 | CBI | (G) Surfactant | (G) Algal oil betaine surfactant.
P-15-0470 | 5/15/2015 | 8/13/2015 | CBI | (G) Intermediate | (G) Algal oil amide.
P-15-0474 | 5/19/2015 | 8/17/2015 | xF Technologies | (S) Plasticizer | (S) 2-Furancarboxylic acid, 5-methyl-, ethyl ester.
P-15-0474 | 5/19/2015 | 8/17/2015 | xF Technologies | (S) Organic solvent | (S) 2-Furancarboxylic acid, 5-methyl-, ethyl ester.
P-15-0475 | 5/19/2015 | 8/17/2015 | xF Technologies | (G) Renewable organic solvent/plasticizer | (S) 2-Furancarboxylic acid, 5-methyl-, methyl ester.
P-15-0476 | 5/19/2015 | 8/17/2015 | xF Technologies | (G) Renewable organic solvent/plasticizer | (S) 2-Furancarboxylic acid, 5-methyl-,1-methylethyl ester.
P-15-0477 | 5/19/2015 | 8/17/2015 | xF Technologies | (G) Renewable organic solvent/plasticizer | (S) 2-Furancarboxylic acid, 5-methyl-, tetradecyl ester.
P-15-0478 | 5/19/2015 | 8/17/2015 | xF Technologies | (G) Renewable organic solvent/plasticizer | (S) 2-Furancarboxylic acid, 5-methyl-, 2,2'-[ethanediylbis(oxy-2,1-ethanediyl) ester.
P-15-0479 | 5/19/2015 | 8/17/2015 | xF Technologies | (G) Renewable organic solvent/plasticizer | (S) 2-furancarboxylic acid, 5-methyl-, 2,2'-[oxybis(methyl-2,1-ethanediyl)] ester.
P-15-0481 | 5/19/2015 | 8/17/2015 | CBI | (S) Curing agent for epoxy coating systems | (G) Benzaldehyde, reaction products with polyalkylenepolyamines, hydrogenated, reaction products with alkyl ketone.
P-15-0482 | 5/20/2015 | 8/18/2015 | CBI | (G) Lubricant additive | (G) Phenol, alkyl derivs.
P-15-0483 | 5/20/2015 | 8/18/2015 | CBI | (G) Component in cleaning formulation | (G) Alkyl phosphate ammonium salt.
P-15-0484 | 5/22/2015 | 8/20/2015 | CBI | (G) Chemical intermediate | (G) Amino benzyl acrylic copolymer.
P-15-0485 | 5/22/2015 | 8/20/2015 | CBI | (G) Additive for Industrial Coatings | (G) Bismuth Compound.
P-15-0487 | 5/22/2015 | 8/20/2015 | Daewoo International USA Corp | (S) Use with materials to improve mechanical properties or electrical conductivities | (G) Multi-walled carbon nanotubes.
P-15-0487 | 5/22/2015 | 8/20/2015 | Daewoo International USA Corp | (S) Additive for heat transfer and thermal emissions in electronic devices and materials; use as a semi-conductor, conductive, or resistive element in electronic circuitry and devices | (G) Multi-walled carbon nanotubes.
P-15-0487 | 5/22/2015 | 8/20/2015 | Daewoo International USA Corp | (S) Use as an additive for electromagnetic interface (EMI) shielding in electronic devices; additive for electrodes in electronic materials and electronic devices | (G) Multi-walled carbon nanotubes.
P-15-0487 | 5/22/2015 | 8/20/2015 | Daewoo International USA Corp | (S) Use as a catalyst support in chemical manufacturing; Coating additive to improve corrosion resistance or conductive properties | (G) Multi-walled carbon nanotubes.
P-15-0487 | 5/22/2015 | 8/20/2015 | Daewoo International USA Corp | (S) Additive for fibers in structural and electrical applications; Additive for fibers in fabrics and textiles | (G) Multi-walled carbon nanotubes.
P-15-0487 | 5/22/2015 | 8/20/2015 | Daewoo International USA Corp | (S) Use as a filter additive to remove nanoscale materials; use as a semi-conducting compounding additive for high-voltage cable; use as an additive for super-hydrophobicity | (G) Multi-walled carbon nanotubes.
P-15-0487 | 5/22/2015 | 8/20/2015 | Daewoo International USA Corp | (S) Additive for weight reduction in materials | (G) Multi-walled carbon nanotubes.
P-15-0487 | 5/22/2015 | 8/20/2015 | Daewoo International USA Corp | (S) Use as a heat-generating element in heating devices and materials | (G) Multi-walled carbon nanotubes.
P-15-0487 | 5/22/2015 | 8/20/2015 | Daewoo International USA Corp | (S) Use as an additive for electro-static discharge (ESD) in electronic devices, electronics, and materials | (G) Multi-walled carbon nanotubes.
P-15-0488 | 5/22/2015 | 8/20/2015 | Daewoo International USA Corp | (G) Use as an additive for super—hydrophobcity | (G) Multi-walled carbon nanotubes.
P-15-0489 | 5/22/2015 | 8/20/2015 | Daewoo International USA Corp | (G) Use as an additive for super—hydrophobcity | (G) Multi-walled carbon nanotubes.
P-15-0490 | 5/22/2015 | 8/20/2015 | Daewoo International USA Corp | (S) Use as a heat-generating element in heating devices and materials | (G) Multi-walled carbon nanotubes.
P-15-0491 | 5/22/2015 | 8/20/2015 | Daewoo International USA Corp | (S) Use as a heat-generating element in heating devices and materials | (G) Multi-walled carbon nanotubes

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—TMEs Received From May 1, 2015 to May 29, 2015
Case No. | Received date | Projected notice end date | Manufacturer importer | Use | Chemical
T-15-0009 | 5/20/2015 | 7/4/2015 | CBI | (G) Component in cleaning formulation | (G) Alkyl phosphate ammonium salt.

In Table III. of this unit, EPA provides the following information (to the extent that such information is not claimed as CBI) on the NOCs received by EPA during this period: The EPA case number assigned to the NOC, the date the NOC was received by EPA, the projected end date for EPA's review of the NOC, and chemical identity.

Table III—63 NOCs Received From May1, 2015 to May 29, 2015
Case No. | Received date | Commencement notice end date | Chemical
P-12-0425 | 5/14/2015 | 5/5/2015 | (S) Methanol, reaction products with 1,1,1,2,2,3,4,5,5,6,6,7,7,7-tetradecafluoro-3-heptene.*
P-13-0036 | 5/12/2015 | 5/7/2015 | (G) Polymer of epoxy and aliphatic and aromatic acids.
P-13-0690 | 5/19/2015 | 5/11/2015 | (G) Aluminum phosphate.
P-13-0860 | 5/11/2015 | 4/30/2015 | (G) Alkanedicarboxylic acid, polymer with alkanediamine, alkanediol, hydroxy-(hydroxymethyl)-alkanecarboxylic acid and methylenebis[isocyanatocycloalkane] compd. with (dialkylamino)alkanol.
P-14-0100 | 5/19/2015 | 5/13/2015 | (G) Polymerized fatty acid esters with aminoalcohol alkoxylates.
P-14-0110 | 5/10/2015 | 4/30/2015 | (S) Cashew, nutshell liquid, polymer with formaldehyde, reaction products with diethanolamine and diisopropanolamine.*
P-14-0410 | 5/12/2015 | 4/16/2015 | (G) Fatty acids, c18-unsatd., dimers, polymers with ammonia-ethanolamine reaction by-products.
P-14-0425 | 5/12/2015 | 4/13/2015 | (G) Fatty acids, c18-unsatd., dimers, polymers with cashew nutshell liquid, glycidyl ethers.
P-14-0662 | 5/12/2015 | 5/10/2015 | (S) D-Glucopyranose, oliogmeric, c-10-16-alkyl glycosides, polymers with epichlorohydrin, and oligomeric d-glucopyranose decyl octyl glycosides.*
P-14-0724 | 5/12/2015 | 5/9/2015 | (S) D-glucopyranose, oligomeric, decyl, octyl glycosides, polymers with epichlorohydrin, 3-(dodecyldimethylammonio)-2-hydroxypropyl ethers, chloride.*
P-14-0726 | 5/27/2015 | 5/23/2015 | (S) D-Glucopyranose, oligomeric, decyl octyl glycosides, polymers with epichlorohydrin, 3-(dimethyloctadecylammonio)-2-hydroxylpropyl ethers, chlorides.*
P-14-0749 | 5/22/2015 | 5/14/2015 | (G) Substituted alkanoic acid, polymer with substituted alkanediol, polyalkylene polyol and substituted carbomonocycle, alkali metal salt.
P-14-0824 | 5/4/2015 | 4/28/2015 | (G) Rape oil, reaction products with alkylamine.
P-14-0844 | 5/5/2015 | 4/9/2015 | (G) Organosilane treated boron nitride.
P-14-0845 | 5/5/2015 | 4/9/2015 | (G) Organosilane treated oxide ceramic.
P-14-0846 | 5/8/2015 | 4/29/2015 | (G) Alkanoic acid, hydroxy-(hydroxyalkyl)-methyl-, polymer with diisocyanatoalkane, -hydro—hydroxypoly(oxy-alkanediyl) and isocyanato-1-(isocyanatoalkyl)-trimethylcycloalkane, tetrahydroxyalkanel triacrylate-blocked, compd. with trimethylamine.
P-15-0059 | 5/29/2015 | 5/6/2015 | (S) Siloxanes and silicones, 3-[(2-aminoethyl)amino)propyl me, di-me, reaction products with cadmium zinc selenide sulfide, lauric acid and oleylamine.*
P-15-0060 | 5/29/2015 | 5/6/2015 | (S) Dodecanoic acid, reaction products with cadmium zinc selenide sulfide and oleylamine.*
P-15-0104 | 5/29/2015 | 5/6/2015 | (S) Phosphonic acid, p-tetradecyl-, reaction products with cadmium selenide (cdse).*
P-15-0129 | 5/12/2015 | 4/13/2015 | (G) Ethoxylated alkyl chloroformate.
P-15-0130 | 5/13/2015 | 4/16/2015 | (G) Ethoxylated alkyl chloride.
P-15-0163 | 5/27/2015 | 5/22/2015 | (G) Carboxypolyalkylene resin,oxidized, polymer with alkenoic acid, alkyl alkenoate, alkenedioic acid, polyalkylene glycol substituted dicarbomonocycle, substituted carbomonocycle, carbomonocyclic icarboxylic acid and anhydride, alkyl peroxide-initiated.
P-15-0168 | 5/27/2015 | 5/20/2015 | (S) 2-Heptanol, 3,6-dimethyl-.*
P-15-0188 | 5/8/2015 | 5/7/2015 | (G) Carbomoncycles, polymer with substituted heteromonocycle, 2- (2-alkyl-1-oxo-2-alkenyl) oxy] alkyl hydrogen alkanedioate.
P-15-0194 | 5/5/2015 | 4/27/2015 | (G) Methacryloxyalkyl trialkoxysilane, reaction products with alkyl trialkoxysilane, epoxy modified alkoxy alkyl trialkoxysilane and mixed metal oxides.
P-15-0195 | 5/12/2015 | 4/27/2015 | (G) Methacryloxyalkyl trialkoxysilane, reaction products with alkyl trialkoxysilane, epoxy modified alkoxy alkyl trialkoxysilane and mixed metal oxides.
P-15-0196 | 5/12/2015 | 4/27/2015 | (G) Methacryloxyalkyl trialkoxysilane, reaction products with alkyl trialkoxysilane, epoxy modified alkoxy alkyl trialkoxysilane and mixed metal oxides.
P-15-0197 | 5/12/2015 | 4/27/2015 | (G) Methacryloxyalkyl trialkoxysilane, reaction products with alkyl trialkoxysilane, epoxy modified alkoxy alkyl trialkoxysilane and mixed metal oxides.
P-15-0198 | 5/12/2015 | 4/26/2015 | (G) Methacryloxyalkyl trialkoxysilane, reaction products with alkyl trialkoxysilane, epoxy modified alkoxy alkyl trialkoxysilane and mixed metal oxides.
P-15-0199 | 5/8/2015 | 4/24/2015 | (G) Metallic salt of dicarboxylic acid.
P-15-0200 | 5/12/2015 | 4/27/2015 | (G) Isocyanated alkyl trialkoxysilane, reaction products with epoxy modified cyclohexyl trialkoxysilane, alkylamine trialkoxysilane and mixed metal oxides.
P-15-0205 | 5/12/2015 | 4/26/2015 | (G) Alkyldiamine alkyl trialkoxysilane, reaction products with methacrylate alkyl trialkoxysilane and mixed metal oxides.
P-15-0206 | 5/12/2015 | 4/26/2015 | (G) Alkyldiamine alkyl trialkoxysilane, reaction products with methacrylate alkyl trialkoxysilane and mixed metal oxides.
P-15-0207 | 5/12/2015 | 4/26/2015 | (G) Methacrylate alkyl trialkoxysilane, reaction products with metal oxides.
P-15-0209 | 5/12/2015 | 4/26/2015 | (G) Epoxy modified alkoxy alkyl trialkoxysilane, reaction products with mixed metal oxides.
P-15-0210 | 5/12/2015 | 4/26/2015 | (G) Alkyldiamine alkyl trialkoxysilane, reaction products with methacrylate alkyl trialkoxysilane and mixed metal oxides.
P-15-0211 | 5/12/2015 | 4/26/2015 | (G) Methacryloxyalkyl trialkoxysilane, reaction products with alkyl trialkoxysilane, epoxy modified alkoxy alkyl trialkoxysilane and mixed metal oxides.
P-15-0212 | 5/12/2015 | 4/26/2015 | (G) Isocyanated alkyl trialkoxysilane, reaction products with epoxy modified cyclohexyl trialkoxysilane, and mixed metal oxides.
P-15-0213 | 5/12/2015 | 4/27/2015 | (G) Alkyl trialkoxysilane, reaction products with epoxy modified alkoxy alkyl trialkoxysilane, methacrylate alkyl trialkoxysilane and mixed metal oxides.
P-15-0214 | 5/12/2015 | 4/26/2015 | (G) Alkyldiamine alkyl trialkoxysilane, reaction products with methacrylate alkyl trialkoxysilane and mixed metal oxides.
P-15-0215 | 5/12/2015 | 4/26/2015 | (G) Epoxy modified alkoxy alkyl trialkoxysilane, reaction products with mixed metal oxides.
P-15-0216 | 5/12/2015 | 4/26/2015 | (G) Isocyanated alkyl trialkoxysilane, reaction products with epoxy modified cyclohexyl trialkoxysilane, alkylamine trialkosysilane and mixed metal oxides.
P-15-0217 | 5/12/2015 | 4/26/2015 | (G) Isocyanated alkyl trialkoxysilane, reaction products with epoxy modified cyclohexyl trialkoxysilane, alkylamine trialkoxysilane and mixed metal oxides.
P-15-0218 | 5/5/2015 | 4/26/2015 | (G) Epoxy modified alkoxy alkyl trialkoxysilane, reaction products with mixed metal oxides.
P-15-0219 | 5/12/2015 | 4/26/2015 | (G) Isocyanated alkyl trialkoxysilane, reaction products with epoxy modified cyclohexyl trialkoxysilane, alkylamine trialkoxysilane and mixed metal oxides.
P-15-0222 | 5/5/2015 | 4/27/2015 | (G) Alkyl trialkoxysilane, reaction products with epoxy modified alkoxy alkyl trialkoxysilane, methacrylate alkyl trialkoxysilane and mixed metal oxides.
P-15-0223 | 5/5/2015 | 4/27/2015 | (G) Alkyl trialkoxysilane, reaction products with methacrylate alkyl trialkoxysilane, epoxy modified alkoxy alkyl trialkoxysilane and mixed metal oxides.
P-15-0224 | 5/12/2015 | 4/27/2015 | (G) Alkyl trialkoxysilane, reaction products with epoxy modified alkoxy alkyl trialkoxysilane, methacrylate alkyl trialkoxysilane and mixed metal oxides.
P-15-0225 | 5/12/2015 | 4/26/2015 | (G) Methacryloxyalkyl trialkoxysilane, reaction products with alkyl trialkoxysilane, epoxy modified alkoxy alkyl trialkoxysilane and mixed metal oxides.
P-15-0226 | 5/12/2015 | 4/26/2015 | (G) Alkyl amine trialkoxysilane, reaction products with isocyanated alkyl trialkoxysilane, epoxy modified cyclohexyl trialkoxysilane, and mixed metal oxides.
P-15-0227 | 5/5/2015 | 4/27/2015 | (G) Alkyl trialkoxysilane, reaction products with epoxy modified alkoxy alkyl trialkoxysilane, methacrylate alkyl trialkoxysilane and mixed metal oxides.
P-15-0229 | 5/5/2015 | 4/26/2015 | (G) Isocyanated alkyl trialkoxysilane, reaction products with epoxy modified cyclohexyl trialkoxysilane and mixed metal oxides.
P-15-0231 | 5/12/2015 | 4/26/2015 | (G) Alkyl trialkoxysilane, reaction products with epoxy modified alkoxy alkyl trialkoxysilane, methacrylate alkyl trialkoxysilane and mixed metal oxides.
P-15-0233 | 5/12/2015 | 4/26/2015 | (G) Isocyanated alkyl trialkoxysilane, reaction products with epoxy modified cyclohexyl trialkoxysilane, and mixed metal oxides.
P-15-0234 | 5/12/2015 | 4/26/2015 | (G) Isocyanated alkyl trialkoxysilane, reaction products with epoxy modified cyclohexyl trialkoxysilane, alkylamine trialkoxysilane and mixed metal oxides.*
P-15-0235 | 5/12/2015 | 4/26/2015 | (G) Epoxy modified cyclohexyl trialkoxysilane, reaction products with isocyanated alkyl trialkoxysilane, glass and mixed oxides.
P-15-0236 | 5/29/2015 | 4/29/2015 | (G) Alkyl amine trialkoxysilane, reaction products with isocyanated alkyl trialkoxysilane, epoxy modified cyclohexyl trialkoxysilane, and mixed metal oxides.
P-15-0237 | 5/12/2015 | 4/26/2015 | (G) Methacrylate alkyl trialkoxysilane, reaction products with metal oxides.
P-15-0239 | 5/25/2015 | 4/26/2015 | (G) Siloxanes and silicones, amino alkyl substituted alkyl hydroxyl, hydroxyl fluorinated alkyl, ester salts, reaction products with mixed metal oxides.
P-15-0242 | 5/7/2015 | 5/6/2015 | (G) Heteropolycyclic, polymer with alkanedioic acid, di-alkenoate.
P-15-0264 | 5/27/2015 | 5/22/2015 | (G) Carabomonocyclic dicarboxylic acid, polymer with alkanedioic acids, alkanediol, substituted heterpolycycle, alkanedioic acid, alkanediol, substituted carbomonocycle, alkyl alkenoate, alkanediols and alkenoic acid, alkyl ester, alkanoate, alkyl peroxide-initiated.
P-15-0265 | 5/27/2015 | 5/22/2015 | (G) Carbomonocyclic dicarboxylic acid, polymer with alkanedioic acids, alkanediol, substituted heteropolycycle, alkanedioic acid, alkanediol, substituted carbomonocycle, alkyl alkanoate, alkanedioic acid, alkanediols and alkanoic acid, alkyl ester, alkanoate, alkyl peroxide-initiated.
P-15-0268 | 5/6/2015 | 5/1/2015 | (G) Alkyl alkenoic acid, polymer with substituted alkyl alkenoate and alkyl alkenoate, reaction products with polyalkylene glycol substituted alkyl ether.

If you are interested in information that is not included in these tables, you may contact EPA as described in Unit III to access additional non-CBI information that may be available.

Authority: 15 U.S.C. 2601 et seq.

Dated: June 24, 2015.
Chandler Sirmons,
Acting Director, Information Management Division, Office of Pollution Prevention and Toxics.

[FR Doc. 2015-16047 Filed 6-29-15; 8:45 am]

BILLING CODE 6560-50-P